NATIONAL AERONAUTICS AND SPACE ADMINISTRATION

[Notice 04-086]

NASA Advisory Council, Space Science Advisory Committee Sun-Earth Connection Advisory Subcommittee; Meeting

AGENCY: National Aeronautics and Space Administration (NASA).

ACTION: Notice of Meeting.

SUMMARY: The National Aeronautics and Space Administration announces a forthcoming meeting of the NASA Advisory Council (NAC), Space Science Advisory Committee (SScAC), Sun-Earth Connection Advisory Subcommittee (SECAS).

DATES: Monday, July 26, 2004, 8:30 a.m. to 5 p.m., Tuesday, July 27, 2004, 8:30 a.m. to 5:30 p.m., and Wednesday, July 28, 2004, 8:30 a.m. to Noon.

ADDRESSES: Shelter Pointe Hotel and Marina, 1551 Island Drive, San Diego, CA 92106.

FOR FURTHER INFORMATION CONTACT: Dr. Barbara Giles, Office of Space Science, National Aeronautics and Space Administration, Washington, DC 20546, (202) 358-1762, barbara.giles@nasa.gov.

SUPPLEMENTARY INFORMATION: The meeting will be open to the public up to the capacity of the room. The agenda for the meeting includes the following topics:

• Sun-Earth Connection Overview and Program Status.

• New Exploration Vision, Reorganization, Priorities.

• Reports from Sun-Earth Connection Management Operations Working Group.

• Government Performance Results Act FY 2004 Report.

It is imperative that the meeting be held on these dates to accommodate the scheduling priorities of the key participants. Visitors will be requested to sign a visitor's register.

R. Andrew Falcon,
Advisory Committee Management Officer, National Aeronautics and Space Administration.

[FR Doc. 04-16066 Filed 7-14-04; 8:45 am]

BILLING CODE 7510-01-P